DEPARTMENT OF ENERGY

Federal Energy Regulatory Commission

Combined Notice of Filings #2

September 30, 2010.

Take notice that the Commission received the following electric rate filings:

Docket Numbers: ER10-2647-000.

Applicants: Dynegy Power Marketing, Inc.

Description: Dynegy Power Marketing, Inc. submits tariff filing per 35.12: Market-Based Rate Tariff in Compliance with Order No. 714 to be effective 9/10/2010.

Filed Date: 09/10/2010.

Accession Number: 20100910-5272.

Comment Date: 5 p.m. Eastern Time on Wednesday, October 06, 2010.

Docket Numbers: ER10-3241-000.

Applicants: Weyerhaeuser NR Company.

Description: Weyerhaeuser NR Company submits tariff filing per 35.12: Weyerhaeuser NR Company MBR Tariff to be effective 9/30/2010.

Filed Date: 09/30/2010.

Accession Number: 20100930-5115.

Comment Date: 5 p.m. Eastern Time on Thursday, October 21, 2010.

Docket Numbers: ER10-3242-000.

Applicants: Eagle Power Authority, Inc.

Description: Eagle Power Authority, Inc. submits tariff filing per 35.12: Eagle Power Authority, Inc. MBR eTariff Filing to be effective 9/30/2010.

Filed Date: 09/30/2010.

Accession Number: 20100930-5118.

Comment Date: 5 p.m. Eastern Time on Thursday, October 21, 2010.

Docket Numbers: ER10-3243-000.

Applicants: Chandler Wind Partners, LLC.

Description: Chandler Wind Partners, LLC submits tariff filing per 35.12: Chandler Wind Partners, LLC MBR Tariff to be effective 9/30/2010.

Filed Date: 09/30/2010.

Accession Number: 20100930-5121.

Comment Date: 5 p.m. Eastern Time on Thursday, October 21, 2010.

Docket Numbers: ER10-3244-000.

Applicants: Coso Geothermal Power Holdings, LLC.

Description: Coso Geothermal Power Holdings, LLC submits tariff filing per 35.12: Coso Geothermal Power Holdings, LLC MBR Tariff to be effective 9/30/2010.

Filed Date: 09/30/2010.

Accession Number: 20100930-5122.

Comment Date: 5 p.m. Eastern Time on Thursday, October 21, 2010.

Docket Numbers: ER10-3245-000.

Applicants: Foote Creek II, LLC.

Description: Foote Creek II, LLC submits tariff filing per 35.12: Foote Creek II, LLC MBR Tariff to be effective 9/30/2010.

Filed Date: 09/30/2010.

Accession Number: 20100930-5133.

Comment Date: 5 p.m. Eastern Time on Thursday, October 21, 2010.

Docket Numbers: ER10-3246-000.

Applicants: PacifiCorp.

Description: PacifiCorp submits tariff filing per 35.12: Baseline Filing to be effective 9/30/2010.

Filed Date: 09/30/2010.

Accession Number: 20100930-5144.

Comment Date: 5 p.m. Eastern Time on Thursday, October 21, 2010.

Docket Numbers: ER10-3247-000.

Applicants: Electric Energy, Inc.

Description: Electric Energy, Inc. submits tariff filing per 35.12: First Baseline Tariff to be effective 9/30/2010.

Filed Date: 09/30/2010.

Accession Number: 20100930-5148.

Comment Date: 5 p.m. Eastern Time on Thursday, October 21, 2010.

Docket Numbers: ER10-3248-000.

Applicants: Black Oak Energy, LLC.

Description: Black Oak Energy, LLC submits tariff filing per 35.12: Black Oak Energy, LLC, FERC Electric Market Based Rate Tariff No. 1 to be effective 9/30/2010.

Filed Date: 09/30/2010.

Accession Number: 20100930-5150.

Comment Date: 5 p.m. Eastern Time on Thursday, October 21, 2010.

Docket Numbers: ER10-3249-000.

Applicants: Foote Creek III, LLC.

Description: Foote Creek III, LLC submits tariff filing per 35.12: Foote Creek III, LLC MBR Tariff to be effective 9/30/2010.

Filed Date: 09/30/2010.

Accession Number: 20100930-5152.

Comment Date: 5 p.m. Eastern Time on Thursday, October 21, 2010.

Docket Numbers: ER10-3250-000.

Applicants: Foote Creek IV, LLC.

Description: Foote Creek IV, LLC submits tariff filing per 35.12: Foote Creek IV, LLC MBR Tariff to be effective 9/30/2010.

Filed Date: 09/30/2010.

Accession Number: 20100930-5156.

Comment Date: 5 p.m. Eastern Time on Thursday, October 21, 2010.

Docket Numbers: ER10-3251-000.

Applicants: Oak Creek Wind Power, LLC.

Description: Oak Creek Wind Power, LLC submits tariff filing per 35.12: Oak Creek Wind Power, LLC MBR Tariff to be effective 9/30/2010.

Filed Date: 09/30/2010.

Accession Number: 20100930-5160.

Comment Date: 5 p.m. Eastern Time on Thursday, October 21, 2010.

Docket Numbers: ER10-3252-000.

Applicants: Ridge Crest Wind Partners, LLC.

Description: Ridge Crest Wind Partners, LLC submits tariff filing per 35.12: Ridge Crest Wind Partners, LLC MBR Tariff to be effective 9/30/2010.

Filed Date: 09/30/2010.

Accession Number: 20100930-5180.

Comment Date: 5 p.m. Eastern Time on Thursday, October 21, 2010.

Docket Numbers: ER10-3253-000.

Applicants: Wheelabrator Bridgeport, L.P.

Description: Wheelabrator Bridgeport, L.P. submits tariff filing per 35.12: Wheelabrator Bridgeport, L.P. MBR Tariff to be effective 9/30/2010.

Filed Date: 09/30/2010.

Accession Number: 20100930-5195.

Comment Date: 5 p.m. Eastern Time on Thursday, October 21, 2010.

Docket Numbers: ER10-3254-000.

Applicants: Cooperative Energy Incorporated.

Description: Cooperative Energy Incorporated (An Electric Membership Corporation) submits tariff filing per 35.12: Cooperative Energy Baseline MBR Tariff filing to be effective 9/30/2010.

Filed Date: 09/30/2010.

Accession Number: 20100930-5198.

Comment Date: 5 p.m. Eastern Time on Thursday, October 21, 2010.

Docket Numbers: ER10-3255-000.

Applicants: MET MA LLC.

Description: MET MA LLC submits tariff filing per 35.12: MET MA, LLC FERC Electric MBR Tariff No. 1 to be effective 9/30/2010.

Filed Date: 09/30/2010.

Accession Number: 20100930-5200.

Comment Date: 5 p.m. Eastern Time on Thursday, October 21, 2010.

Docket Numbers: ER10-3256-000.

Applicants: PJM Interconnection, L.L.C.

Description: PJM Interconnection, L.L.C. submits tariff filing per 35.13(a)(2)(iii: ISA No. 2641, CSA Nos. 2642, 2643-T157, AES New Creek, LLC, et al. to be effective 9/17/2010.

Filed Date: 09/30/2010.

Accession Number: 20100930-5201.

Comment Date: 5 p.m. Eastern Time on Thursday, October 21, 2010.

Docket Numbers: ER10-3257-000.

Applicants: Starwood Power-Midway LLC.

Description: Starwood Power-Midway LLC submits tariff filing per 35.12: Starwood Midway FERC Electric Tariff to be effective 9/30/2010.

Filed Date: 09/30/2010.

Accession Number: 20100930-5203.

Comment Date: 5 p.m. Eastern Time on Thursday, October 21, 2010.

Docket Numbers: ER10-3258-000.

Applicants: Ally Energy, LLC.

Description: Ally Energy, LLC submits tariff filing per 35.12: Ally Energy, LLC FERC Electric MBR Tariff No. 1 to be effective 9/30/2010.

Filed Date: 09/30/2010.

Accession Number: 20100930-5205.

Comment Date: 5 p.m. Eastern Time on Thursday, October 21, 2010.

Docket Numbers: ER10-3259-000.

Applicants: Alcoa Power Generating Inc.

Description: Alcoa Power Generating Inc. submits tariff filing per 35.12: APGI OATT Baseline Filing to be effective 10/1/2010.

Filed Date: 09/30/2010.

Accession Number: 20100930-5207.

Comment Date: 5 p.m. Eastern Time on Thursday, October 21, 2010.

Docket Numbers: ER10-3260-000.

Applicants: Granite Ridge Energy, LLC.

Description: Granite Ridge Energy, LLC submits tariff filing per 35.12: FERC Electric Tariff to be effective 9/30/2010.

Filed Date: 09/30/2010.

Accession Number: 20100930-5208.

Comment Date: 5 p.m. Eastern Time on Thursday, October 21, 2010.

Docket Numbers: ER10-3261-000.

Applicants: Big Bog Energy LP.

Description: Big Bog Energy LP submits tariff filing per 35.12: Big Bog Energy LP, FERC Electric MBR Tariff No. 1 to be effective 9/30/2010.

Filed Date: 09/30/2010.

Accession Number: 20100930-5209.

Comment Date: 5 p.m. Eastern Time on Thursday, October 21, 2010.

Docket Numbers: ER10-3262-000.

Applicants: Coaltrain Energy LP.

Description: Coaltrain Energy LP submits tariff filing per 35.12: Coaltrain Energy, LP, FERC Electric MBR Tariff No. 1 to be effective 9/30/2010.

Filed Date: 09/30/2010.

Accession Number: 20100930-5210.

Comment Date: 5 p.m. Eastern Time on Thursday, October 21, 2010.

Docket Numbers: ER10-3263-000.

Applicants: Cleco Power LLC.

Description: Cleco Power LLC submits tariff filing per 35: Cleco Power OATT baseline refile to be effective 9/30/2010.

Filed Date: 09/30/2010.

Accession Number: 20100930-5211.

Comment Date: 5 p.m. Eastern Time on Thursday, October 21, 2010.

Docket Numbers: ER10-3264-000.

Applicants: Cleco Power LLC.

Description: Cleco Power LLC submits tariff filing per 35: RS 21 Acadia Power Partners IA Baseline to be effective 9/30/2010.

Filed Date: 09/30/2010.

Accession Number: 20100930-5213.

Comment Date: 5 p.m. Eastern Time on Thursday, October 21, 2010.

Docket Numbers: ER10-3265-000.

Applicants: Crestwood Energy, LP.

Description: Crestwood Energy, LP submits tariff filing per 35.12: Crestwood Energy LP, FERC Electric MBR Tariff No. 1 to be effective 9/30/2010.

Filed Date: 09/30/2010.

Accession Number: 20100930-5223.

Comment Date: 5 p.m. Eastern Time on Thursday, October 21, 2010.

Docket Numbers: ER10-3266-000.

Applicants: SU FERC, L.L.C.

Description: SU FERC, L.L.C. submits tariff filing per 35.12: Baseline to be effective 9/30/2010.

Filed Date: 09/30/2010.

Accession Number: 20100930-5249.

Comment Date: 5 p.m. Eastern Time on Thursday, October 21, 2010.

Docket Numbers: ER10-3267-000.

Applicants: Cleco Power LLC.

Description: Cleco Power LLC submits tariff filing per 35: RS 25 VEMCO ESIA Baseline to be effective 9/30/2010.

Filed Date: 09/30/2010.

Accession Number: 20100930-5250.

Comment Date: 5 p.m. Eastern Time on Thursday, October 21, 2010.

Docket Numbers: ER10-3268-000.

Applicants: Energy Endeavors LP.

Description: Energy Endeavors LP submits tariff filing per 35.12: Energy Endeavors LP, FERC Electric MBR Tariff No. 1 to be effective 9/30/2010.

Filed Date: 09/30/2010.

Accession Number: 20100930-5251.

Comment Date: 5 p.m. Eastern Time on Thursday, October 21, 2010.

Docket Numbers: ER10-3269-000.

Applicants: West Oaks Energy LP.

Description: West Oaks Energy LP submits tariff filing per 35.12: West Oaks Energy, LP, FERC Electric MBR Tariff No. 1 to be effective 9/30/2010.

Filed Date: 09/30/2010.

Accession Number: 20100930-5252.

Comment Date: 5 p.m. Eastern Time on Thursday, October 21, 2010.

Docket Numbers: ER10-3270-000.

Applicants: Cleco Power LLC.

Description: Cleco Power LLC submits tariff filing per 35.13(a)(2)(iii: RS 21 Acadia Power Partners IA to be effective 10/1/2010.

Filed Date: 09/30/2010.

Accession Number: 20100930-5255.

Comment Date: 5 p.m. Eastern Time on Thursday, October 21, 2010.

Docket Numbers: ER10-3271-000.

Applicants: ERA MA, LLC.

Description: ERA MA, LLC submits tariff filing per 35.12: ERA MA, LLC FERC Electric MBR Tariff No. 1 to be effective 9/30/2010.

Filed Date: 09/30/2010.

Accession Number: 20100930-5256.

Comment Date: 5 p.m. Eastern Time on Thursday, October 21, 2010.

Docket Numbers: ER10-3272-000.

Applicants: Lower Mount Bethel Energy, LLC.

Description: Lower Mount Bethel Energy, LLC submits tariff filing per 35.12: Lower Mount Bethel Energy, LLC Reactive Power Tariff to be effective 9/30/2010.

Filed Date: 09/30/2010.

Accession Number: 20100930-5263.

Comment Date: 5 p.m. Eastern Time on Thursday, October 21, 2010.

Docket Numbers: ER10-3273-000.

Applicants: PPL EnergyPlus, LLC.

Description: PPL EnergyPlus, LLC submits tariff filing per 35.12: PPL EnergyPlus, LLC Reactive Power Tariff Baseline Filing to be effective 9/30/2010.

Filed Date: 09/30/2010.

Accession Number: 20100930-5269.

Comment Date: 5 p.m. Eastern Time on Thursday, October 21, 2010.

Docket Numbers: ER10-3274-000.

Applicants: Pawtucket Power Associates Limited Partnership.

Description: Pawtucket Power Associates Limited Partnership submits tariff filing per 35.12: Baseline Market Based Rate Tariff Filing to be effective 9/30/2010.

Filed Date: 09/30/2010.

Accession Number: 20100930-5271.

Comment Date: 5 p.m. Eastern Time on Thursday, October 21, 2010.

Docket Numbers: ER10-3275-000.

Applicants: Capitol District Energy Center Cogeneration Associates.

Description: Capitol District Energy Center Cogeneration Associates submits tariff filing per 35.12: Baseline Filing of Market Based Rate Tariff to be effective 9/30/2010.

Filed Date: 09/30/2010.

Accession Number: 20100930-5281.

Comment Date: 5 p.m. Eastern Time on Thursday, October 21, 2010.

Docket Numbers: ER10-3276-000.

Applicants: Gotham Energy Marketing LP.

Description: Gotham Energy Marketing LP submits tariff filing per 35.12: Gotham Energy Marketing, LP, FERC Electric MBR Tariff No. 1 to be effective 9/30/2010.

Filed Date: 09/30/2010.

Accession Number: 20100930-5287.

Comment Date: 5 p.m. Eastern Time on Thursday, October 21, 2010.

Docket Numbers: ER10-3277-000.

Applicants: Pittsfield Generating Company, L.P.

Description: Pittsfield Generating Company, L.P. submits tariff filing per 35.12: Baseline Filing of Market Based Rate Tariff to be effective 9/30/2010.

Filed Date: 09/30/2010.

Accession Number: 20100930-5293.

Comment Date: 5 p.m. Eastern Time on Thursday, October 21, 2010.

Docket Numbers: ER10-3278-000.

Applicants: Forked River Power LLC.

Description: Forked River Power LLC submits tariff filing per 35.12: Baseline Filing of Market Based Rate Tariff to be effective 9/30/2010.

Filed Date: 09/30/2010.

Accession Number: 20100930-5299.

Comment Date: 5 p.m. Eastern Time on Thursday, October 21, 2010.

Docket Numbers: ER10-3279-000.

Applicants: Basin Creek Equity Partners, L.L.C.

Description: Basin Creek Equity Partners, L.L.C. submits tariff filing per 35.12: Baseline Filing of Market Based Rate Tariff to be effective 9/30/2010.

Filed Date: 09/30/2010.

Accession Number: 20100930-5304.

Comment Date: 5 p.m. Eastern Time on Thursday, October 21, 2010.

Docket Numbers: ER10-3280-000.

Applicants: PPL University Park, LLC.

Description: PPL University Park, LLC submits tariff filing per 35.12: PPL University Park, LLC Market-Based Rate Tariff Baseline Filing to be effective 9/30/2010.

Filed Date: 09/30/2010.

Accession Number: 20100930-5308.

Comment Date: 5 p.m. Eastern Time on Thursday, October 21, 2010.

Docket Numbers: ER10-3281-000.

Applicants: PPL University Park, LLC.

Description: PPL University Park, LLC submits tariff filing per 35.12: PPL University Park, LLC Reactive Power Tariff Baseline Filing to be effective 9/30/2010.

Filed Date: 09/30/2010.

Accession Number: 20100930-5309.

Comment Date: 5 p.m. Eastern Time on Thursday, October 21, 2010.

Docket Numbers: ER10-3283-000.

Applicants: Liberty Electric Power, LLC.

Description: Liberty Electric Power, LLC submits tariff filing per 35.12: FERC Electric Tariff to be effective 9/30/2010.

Filed Date: 09/30/2010.

Accession Number: 20100930-5326.

Comment Date: 5 p.m. Eastern Time on Thursday, October 21, 2010.

Docket Numbers: ER10-3285-000.

Applicants: UGI Utilities Inc.

Description: UGI Utilities Inc. submits tariff filing per 35.12: UGI Utilities Inc. to be effective 9/30/2010.

Filed Date: 09/30/2010.

Accession Number: 20100930-5330.

Comment Date: 5 p.m. Eastern Time on Thursday, October 21, 2010.

Docket Numbers: ER10-3286-000.

Applicants: Millennium Power Partners, L.P.

Description: Millennium Power Partners, L.P. submits tariff filing per 35.12: FERC Electric Tariff to be effective 9/30/2010.

Filed Date: 09/30/2010.

Accession Number: 20100930-5333.

Comment Date: 5 p.m. Eastern Time on Thursday, October 21, 2010.

Docket Numbers: ER10-3287-000.

Applicants: Cleco Power LLC.

Description: Cleco Power LLC submits tariff filing per 35: Attachment I Comp Filing 09/01/10 to be effective 10/1/2010.

Filed Date: 09/30/2010.

Accession Number: 20100930-5334.

Comment Date: 5 p.m. Eastern Time on Thursday, October 21, 2010.

Docket Numbers: ER10-3288-000.

Applicants: New Harquahala Generating Company, LLC.

Description: New Harquahala Generating Company, LLC submits tariff filing per 35.12: New Harquahala FERC Electric Tariff to be effective 9/30/2010.

Filed Date: 09/30/2010.

Accession Number: 20100930-5336.

Comment Date: 5 p.m. Eastern Time on Thursday, October 21, 2010.

Docket Numbers: ER10-3289-000.

Applicants: Nevada Power Company.

Description: Nevada Power Company submits tariff filing per 35: Concurrence in NV Energy, Inc. Operating Companies OATT to be effective 9/30/2010.

Filed Date: 09/30/2010.

Accession Number: 20100930-5343.

Comment Date: 5 p.m. Eastern Time on Thursday, October 21, 2010.

Docket Numbers: ER10-3290-000.

Applicants: Startrans IO, LLC.

Description: Startrans IO, LLC submits tariff filing per 35.12: Startrans IO FERC Electric Tariff to be effective 9/30/2010.

Filed Date: 09/30/2010.

Accession Number: 20100930-5352.

Comment Date: 5 p.m. Eastern Time on Thursday, October 21, 2010.

Docket Numbers: ER10-3291-000.

Applicants: Thermo Cogeneration Partnership, L.P.

Description: Thermo Cogeneration Partnership, L.P. submits tariff filing per 35.12: Thermo Cogen FERC Electric Tariff to be effective 9/30/2010.

Filed Date: 09/30/2010.

Accession Number: 20100930-5357.

Comment Date: 5 p.m. Eastern Time on Thursday, October 21, 2010.

Docket Numbers: ER10-3292-000.

Applicants: Power Choice Inc.

Description: Power Choice Inc. submits tariff filing per 35.12: Power Choice Electric MBR Filing to be effective 9/30/2010.

Filed Date: 09/30/2010.

Accession Number: 20100930-5360.

Comment Date: 5 p.m. Eastern Time on Thursday, October 21, 2010.

Docket Numbers: ER10-3293-000.

Applicants: The Dayton Power and Light Company.

Description: The Dayton Power and Light Company submits tariff filing per 35.13(a)(2)(iii): FERC Rate Schedule No. 53, Village of Yellow Springs to be effective 9/30/2010.

Filed Date: 09/30/2010.

Accession Number: 20100930-5364.

Comment Date: 5 p.m. Eastern Time on Thursday, October 21, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-25369 Filed 10-7-10; 8:45 am]

BILLING CODE 6717-01-P